DEPARTMENT OF TRANSPORTATION

Federal Highway Administration

Access to the Interstate System

AGENCY: Federal Highway Administration (FHWA), DOT.

ACTION: Notice of revised policy statement.

SUMMARY: This document issues the revised FHWA policy statement regarding requests for new or modified access points to the Interstate System. The policy includes the requirements for the justification and documentation necessary to substantiate any request that is submitted to FHWA for approval.

FOR FURTHER INFORMATION CONTACT: For technical information: Mr. Jon Obenberger, Office of Program Administration (HIPA-20), (202) 366-2221. For legal information: Mr. Robert Black, Office of the Chief Counsel (HCC-32), (202) 366-1359, Federal Highway Administration, 1200 New Jersey Avenue, SE., Washington, DC 20590. Office hours are from 7:45 a.m. to 4:15 p.m., e.t., Monday through Friday, except Federal holidays.

SUPPLEMENTARY INFORMATION:

Background

The surface transportation system plays a key role in shaping the economic health, quality of life and sustainability of a metropolitan area, region, and State. The Interstate System is a critical element providing a network of limited access freeways which facilitate the distribution of virtually all goods and services across the United States. The Interstate System also influences the mobility and safety of people and goods by providing access to local highways and a network of public streets. As a result, it is in the national interest to preserve and enhance the Interstate System to meet the needs of the surface transportation system of the United States for the 21st century.

The FHWA's Policy on Access to the Interstate System provides the requirements for the justification and documentation necessary to substantiate any proposed changes in access to the Interstate System. This policy also facilitates decisionmaking regarding proposed changes in access to the Interstate System in a manner that considers and is consistent with the vision, goals and long-range transportation plans of a metropolitan area, region and State. This policy reflects the congressional intent and direction provided in section 1909(a)(3) of the Safe, Accountable, Flexible, Efficient Transportation Equity Act: A Legacy for Users (SAFETEA-LU)(Pub. L. 109-59, 119 Stat. 1144), which amended section 101 of title 23, United States Code by adding subsection (b)(3)(H): “the Secretary should take appropriate actions to preserve and enhance the Interstate System to meet the needs of the 21st century.”

Section 111 of title 23, United States Code, provides that all agreements between the Secretary and the State departments of transportation (State DOTs) for the construction of projects on the Interstate System shall contain a clause providing that the State will not add any points of access to, or exit from, the project in addition to those approved by the Secretary in the plans for such project, without the prior approval of the Secretary. The Secretary has delegated the authority to administer 23 U.S.C. 111 to the Federal Highway Administrator pursuant to 49 CFR 1.48(b)(1). A formal policy statement including guidance for justifying and documenting the need for additional access to the existing sections of the Interstate System was published in the Federal Register on October 22, 1990 (55 FR 42670), and modified on February 11, 1998 (63 FR 7045).

The FHWA has adopted the AASHTO publication “A Policy on Design Standards—Interstate System” as the standard for projects on the Interstate System as incorporated by reference at 23 CFR 625.4(a)(2). Section 625.4(a)(2) further requires that access to the Interstate System shall be fully controlled, and that access to the Interstate System shall be achieved by interchanges at selected public highways.

Summary of Changes

The changes in FHWA's policy were made to reflect the direction provided in SAFETEA-LU, to clarify the operational and safety analysis and assessment of impacts that provides the basis for proposed changes in access to the Interstate System, and to update language at various locations to reference Federal laws, regulations, and FHWA policies. The following specific revisions have been made to the existing policy statement:

1. Updates were made to Requirement 1 clarifying the need for agencies to analyze and justify that the projected design-year traffic demands cannot be adequately accommodated by existing access to the Interstate.

2. Additional examples were added to Requirement 2 to identify the type of improvements to be considered in the planning for and development of proposed changes in access.

3. Text was added to Requirement 3 to clarify that the safety and operational analysis to be performed and documentation to be submitted provide the justification for proposed changes in access.

4. Revisions were made to Requirement 4 clarifying the need to meet or exceed design standards for all roadway improvements included in proposals to change access.

5. Changes were made to Requirement 5 to reference the current requirements contained in SAFETEA-LU and 23 CFR part 450.

6. Text was added to Requirement 6 clarifying the analysis to be performed in support of proposed changes in access involving multiple interchanges.

7. Clarification to Requirement 7 was made identifying the justification needed to support any proposed change in access due to changes in land use or density of development.

8. Revision was made to Requirement 8 to clarify and avoid duplication with Requirement 5.

9. Updates were made to the Application section to reference current Federal laws, regulations, and FHWA policies. Revisions were made to paragraph 4 and a new paragraph 5 was added to clarify what is a change in access and how this policy may apply to different types of access changes. Paragraph 8 was added to clarify how FHWA's review and approval of proposed changes in access relate to other Federal actions, reviews, and approvals. Paragraph 9 was added to clarify that proposals for changes in access need to be reevaluated and the proposal resubmitted to FHWA for review and approval if the project has not proceeded to construction within 8 years.

The revised policy statement also includes various editorial changes to enhance clarity and readability. The revised policy statement is as follows:

Policy

It is in the national interest to preserve and enhance the Interstate System to meet the needs of the 21st Century by assuring that it provides the highest level of service in terms of safety and mobility. Full control of access along the Interstate mainline and ramps, along with control of access on the crossroad at interchanges, is critical to providing such service. Therefore, FHWA's decision to approve new or revised access points to the Interstate System must be supported by substantiated information justifying and documenting that decision. The FHWA's decision to approve a request is dependent on the proposal satisfying and documenting the following requirements.

Considerations and Requirements

1. The need being addressed by the request cannot be adequately satisfied by existing interchanges to the Interstate, and/or local roads and streets in the corridor can neither provide the desired access, nor can they be reasonably improved (such as access control along surface streets, improving traffic control, modifying ramp terminals and intersections, adding turn bays or lengthening storage) to satisfactorily accommodate the design-year traffic demands (23 CFR 625.2(a)).

2. The need being addressed by the request cannot be adequately satisfied by reasonable transportation system management (such as ramp metering, mass transit, and HOV facilities), geometric design, and alternative improvements to the Interstate without the proposed change(s) in access (23 CFR 625.2(a)).

3. An operational and safety analysis has concluded that the proposed change in access does not have a significant adverse impact on the safety and operation of the Interstate facility (which includes mainline lanes, existing, new, or modified ramps, ramp intersections with crossroad) or on the local street network based on both the current and the planned future traffic projections. The analysis shall, particularly in urbanized areas, include at least the first adjacent existing or proposed interchange on either side of the proposed change in access (23 CFR 625.2(a), 655.603(d) and 771.111(f)). The crossroads and the local street network, to at least the first major intersection on either side of the proposed change in access, shall be included in this analysis to the extent necessary to fully evaluate the safety and operational impacts that the proposed change in access and other transportation improvements may have on the local street network (23 CFR 625.2(a) and 655.603(d)). Requests for a proposed change in access must include a description and assessment of the impacts and ability of the proposed changes to safely and efficiently collect, distribute and accommodate traffic on the Interstate facility, ramps, intersection of ramps with crossroad, and local street network (23 CFR 625.2(a) and 655.603(d)). Each request must also include a conceptual plan of the type and location of the signs proposed to support each design alternative (23 U.S.C. 109(d) and 23 CFR 655.603(d)).

4. The proposed access connects to a public road only and will provide for all traffic movements. Less than “full interchanges” may be considered on a case-by-case basis for applications requiring special access for managed lanes (e.g., transit, HOVs, HOT lanes) or park and ride lots. The proposed access will be designed to meet or exceed current standards (23 CFR 625.2(a), 625.4(a)(2), and 655.603(d)).

5. The proposal considers and is consistent with local and regional land use and transportation plans. Prior to receiving final approval, all requests for new or revised access must be included in an adopted Metropolitan Transportation Plan, in the adopted Statewide or Metropolitan Transportation Improvement Program (STIP or TIP), and the Congestion Management Process within transportation management areas, as appropriate, and as specified in 23 CFR part 450, and the transportation conformity requirements of 40 CFR parts 51 and 93.

6. In corridors where the potential exists for future multiple interchange additions, a comprehensive corridor or network study must accompany all requests for new or revised access with recommendations that address all of the proposed and desired access changes within the context of a longer-range system or network plan (23 U.S.C. 109(d), 23 CFR 625.2(a), 655.603(d), and 771.111).

7. When a new or revised access point is due to a new, expanded, or substantial change in current or planned future development or land use, requests must demonstrate appropriate coordination has occurred between the development and any proposed transportation system improvements (23 CFR 625.2(a) and 655.603(d)). The request must describe the commitments agreed upon to assure adequate collection and dispersion of the traffic resulting from the development with the adjoining local street network and Interstate access point (23 CFR 625.2(a) and 655.603(d)).

8. The proposal can be expected to be included as an alternative in the required environmental evaluation, review and processing. The proposal should include supporting information and current status of the environmental processing (23 CFR 771.111).

Application

This policy is applicable to new or revised access points to existing Interstate facilities regardless of the funding of the original construction or regardless of the funding for the new access points. This includes routes incorporated into the Interstate System under the provisions of 23 U.S.C. 103(c)(4)(A) or other legislation.

Routes approved as a future part of the Interstate System under 23 U.S.C. 103(c)(4)(B) represent a special case because they are not yet a part of the Interstate System. Since the intention to add the route to the Interstate System has been formalized by agreement, any proposed new or significant changes in access beyond those covered in the agreement, regardless of funding, must be approved by FHWA.

This policy is not applicable to toll roads incorporated into the Interstate System, except for segments where Federal funds have been expended or these funds will be used for roadway improvements, or where the toll road section has been added to the Interstate System under the provisions of 23 U.S.C. 103(c)(4)(A). The term “segment” is defined as the project limits described in the Federal-aid project agreement.

Each break in the control of access to the Interstate System right-of-way is considered to be an access point. For the purpose of applying this policy, each entrance or exit point, including “locked gate” access, is considered to be an access point. For example, a diamond interchange configuration has four access points.

Ramps providing access to rest areas, information centers, and weigh stations within the Interstate controlled access are not considered access points for the purpose of applying this policy. These facilities shall be accessible to vehicles only to and from the Interstate System. Access to or from these facilities and local roads and adjoining property is prohibited. The only allowed exception is for access to adjacent publicly owned conservation and recreation areas, if access to these areas is only available through the rest area, as allowed under 23 CFR 752.5(d).

Generally, any change in the design of an existing access point is considered a change to the interchange configuration, even though the number of actual points of access may not change. For example, replacing one of the direct ramps of a diamond interchange with a loop, or changing a cloverleaf interchange into a fully directional interchange would be considered revised access for the purpose of applying this policy.

All requests for new or revised access points on completed Interstate highways must closely adhere to the planning and environmental review processes as required in 23 CFR parts 450 and 771. The FHWA approval constitutes a Federal action and, as such, requires that the transportation planning, conformity, congestion management process, and the National Environmental Policy Act procedures be followed and their requirements satisfied. This means the final FHWA approval of requests for new or revised access cannot precede the completion of these processes or necessary actions.

To offer maximum flexibility, however, any proposed change in access can be submitted by a State DOT to the FHWA Division Office for a determination of engineering and operational acceptability. This flexibility allows agencies the option of obtaining this acceptability determination prior to making the required modifications to the Transportation Plan, performing any required conformity analysis, and completing the environmental review and approval process. In this manner, State DOTs can determine if a proposal is acceptable for inclusion as an alternative in the environmental process. This policy in no way alters the planning, conformity or environmental review and approval procedures as contained in 23 CFR parts 450 and 771, and 40 CFR parts 51 and 93.

An affirmative determination by FHWA of engineering and operational acceptability for proposals for new or revised access points to the Interstate System should be reevaluated whenever a significant change in conditions occurs (e.g., land use, traffic volumes, roadway configuration or design, environmental commitments). Proposals shall be reevaluated if the project has not progressed to construction within 8 years of receiving an affirmative determination of engineering and operational acceptability (23 CFR 625.2(a)). If the project is not constructed within this time period, an updated justification report based on current and projected future conditions must be submitted to FHWA to receive either an affirmative determination of engineering and operational acceptability, or final approval if all other requirements have been satisfied (23 U.S.C. 111, 23 CFR 625.2(a), and 23 CFR 771.129).

Implementation

State DOTs are required to submit requests for proposed changes in access to their FHWA Division Office for review and action under 23 U.S.C. 106 and 111, and 23 CFR 625.2(a). The FHWA Division Office will ensure that all requests for changes in access contain sufficient information, as required in this policy, to allow FHWA to independently evaluate and act on the request. Guidance to assist with the implementation and consistent application of this policy can be accessed electronically through the FHWA Office of Infrastructure's Web page at: http://www.fhwa.dot.gov/programadmin/index.htm.

Policy Statement Impact

The policy statement, first published in the Federal Register on October 22, 1990 (55 FR 42670), and modified on February 11, 1998 (63 FR 7045), describes the justification and documentation needed for requests to add or revise access to the existing Interstate System.

The revisions made by the publication of this policy statement reflect the direction provided in SAFETEA-LU, clarify the operational and safety analysis to accompany proposed changes in access on the Interstate System, and update language at various locations to ensure consistency with other Federal laws, regulations and FHWA policies. State DOTs should take these factors into consideration when making requests for new or revised access points, but the overall effort necessary for developing the request will not be significantly increased.

(Authority: 23 U.S.C. 111 and 315; 49 CFR 1.48)

Issued on August 18, 2009.
Victor M. Mendez,
Federal Highway Administrator.

[FR Doc. E9-20679 Filed 8-26-09; 8:45 am]

BILLING CODE 4910-22-P